DEPARTMENT OF THE INTERIOR

National Park Service

[NPS-WASO-NAGPRA-NPS0026580; PPWOCRADN0-PCU00RP14.R50000]

Notice of Inventory Completion: Carter County Museum, Ekalaka, MT

AGENCY: National Park Service, Interior.

ACTION: Notice.

SUMMARY: The Carter County Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Carter County Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Carter County Museum at the address in this notice by November 16, 2018.

ADDRESSES: Sabre Moore, Carter County Museum, 306 North Main Street, Ekalaka, MT 59324, telephone (406) 775-6886, email smoore@cartercountymuseum.org.

SUPPLEMENTARY INFORMATION: Notice is here given in accordance with the Native American Graves Protection and Repatriation Act (NAGPRA), 25 U.S.C. 3003, of the completion of an inventory of human remains under the control of the Carter County Museum, Ekalaka, MT. The human remains were removed from an unknown site in the Mohawk Mountains, 80 miles southwest of Yuma, AZ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Carter County Museum professional staff in consultation with representatives of the Quechan Tribe of the Fort Yuma Indian Reservation, California & Arizona.

History and Description of the Remains

In 1947, human remains—a skull—representing, at minimum, one individual were removed from the Mohawk Mountains, Yuma County, AZ, by Walter H. Peck, Carter County Museum Director. Peck's notes indicate that the skull (catalog number CCM V-43-2-5089) was found amongst numerous other skulls between the 50 and 60-foot level of a mineshaft located at the foot of a mountain, near a trail established by Spanish explorers. No known individuals were identified. No associated funerary objects are present.

Based on Peck's notes, this individual was a Yuma slave forced to work in the mine by the Spanish. The Spanish were first reported to be mining silver in the region in 1736, but were hampered by Apache guerillas. In 1853, the United States purchased the region from Spain. The present day descendants of the Yuma people are the Quechan Tribe of the Fort Yuma Indian Reservation, California & Arizona.

Determinations Made by the Carter County Museum

Officials of the Carter County Museum have determined that:

• Pursuant to 25 U.S.C. 3001(9), the human remains described in this notice represent the physical remains of one individual of Native American ancestry.

• Pursuant to 25 U.S.C. 3001(2), there is a relationship of shared group identity that can be reasonably traced between the Native American human remains and the Quechan Tribe of the Fort Yuma Indian Reservation, California & Arizona.

Additional Requestors and Disposition

Lineal descendants or representatives of any Indian Tribe or Native Hawaiian organization not identified in this notice that wish to request transfer of control of these human remains should submit a written request with information in support of the request to Sabre Moore, Carter County Museum, 306 North Main Street, Ekalaka, MT 59324, telephone (406) 775-6886, email smoore@cartercountymuseum.org, by November 16, 2018. After that date, if no additional requestors have come forward, transfer of control of the human remains to the Quechan Tribe of the Fort Yuma Indian Reservation, California & Arizona may proceed.

The Carter County Museum is responsible for notifying the Quechan Tribe of the Fort Yuma Indian Reservation, California & Arizona that this notice has been published.

Dated: October 1, 2018.
Melanie O'Brien,
Manager, National NAGPRA Program.

[FR Doc. 2018-22589 Filed 10-16-18; 8:45 am]

BILLING CODE 4312-52-P